DEPARTMENT OF JUSTICE

Notice of Lodging of Proposed Consent Decree Under the Oil Pollution Act

On November 30, 2021, the Department of Justice and the Texas Office of the Attorney General filed a civil Complaint and lodged a proposed Consent Decree with the United States District Court for the Southern District of Texas in the lawsuit entitled United States of America and State of Texas v. Kirby Inland Marine, LP, Civil Action No. 3:21-cv-00335. The United States is acting at the request of the designated federal trustees for natural resources: The Department of Commerce through the National Oceanic and Atmospheric Administration and the United States Department of the Interior through the United States Fish and Wildlife Service and the National Park Service. The State of Texas is acting through its designated State trustees: The Texas General Land Office, the Texas Commission on Environmental Quality, and the Texas Parks and Wildlife Department.

This is a civil action brought against Defendant Kirby Inland Marine, LP for recovery of damages for injury to, destruction of, loss of, or loss of use of natural resources, under Section 1002 of the Oil Pollution Act, 33 U.S.C. 2702. The United States and Texas seek damages in order to compensate for and restore natural resources injured by Kirby's oil discharge that occurred in the Houston Ship Channel at the Texas City “Y” crossing on March 22, 2014. The United States and the State also seek to recover unreimbursed costs of assessing such injuries.

The Complaint in this natural resource damages case was filed against Kirby concurrently with the lodging of the proposed Consent Decree. The Complaint alleges that Kirby is liable for damages under the Oil Pollution Act. The Complaint alleges that oil was discharged from a Kirby barge during a collision in the Ship Channel and that natural resources were injured as a result of the discharge.

Kirby will pay $15,334,768.83 under the proposed Consent Decree. Of this total, $15.3 million is designated for the trustees to restore, replace, or acquire the equivalent of the natural resources allegedly injured, destroyed, or lost as a result of the oil spill, and the remaining amount will go to reimburse the trustees for their remaining unpaid assessment costs.

The publication of this notice opens a period for public comment on the proposed Consent Decree. Comments should be addressed to the Acting Assistant Attorney General, Environment and Natural Resources Division, and should refer to United States of America and State of Texas v. Kirby Inland Marine, LP, D.J. Ref. No. 90-5-1-1-11096/1. All comments must be submitted no later than thirty (30) days after the publication date of this notice. Comments may be submitted by either email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to:Consent Decree Library,U.S. DOJ—ENRD,P.O. Box 7611,Washington, DC 20044-7611.

Please enclose a check or money order for $6.75 (25 cents per page reproduction cost) payable to the United States Treasury.

Thomas Carroll,
Assistant Section Chief,Environmental Enforcement Section,Environment and Natural Resources Division.

[FR Doc. 2021-26307 Filed 12-2-21; 8:45 am]

BILLING CODE 4410-CW-P